INTERNATIONAL BOUNDARY AND WATER COMMIISSION UNITED STATES AND MEXICO; UNITED STATES SECTION

Notice of Availability of a Draft Environmental Assessment and Finding of No Significant Impact for Arroyo Colorado South Levee Rehabilitation Project in Cameron and Hidalgo Counties, TX

AGENCY: United States Section, International Boundary and Water Commission, United States and Mexico (USIBWC).

ACTION: Notice of Availability of Draft Environmental Assessment (EA) and Draft Finding of No Significant Impact (FONSI).

SUMMARY: Pursuant to Section 102(2)(c) of the National Environmental Policy Act (NEPA) of 1969, the Council on Environmental Quality Final Regulations (40 CFR Parts 1500 through 1508), and the United States Section`s Operational Procedures for Implementing Section 102 of NEPA, published in the Federal Register September 2, 1981, (46 FR 44083); the USIBWC hereby gives notice of availability of the Draft Environmental Assessment and FONSI for Arroyo Colorado South Levee Rehabilitation Project located in Cameron and Hidalgo Counties, Texas are available. An environmental impact statement will not be prepared unless additional information which may affect this decision is brought to our attention within 30 days from the date of this Notice.

FOR FURTHER INFORMATION CONTACT: Lisa Santana, Environmental Protection Specialist, Environmental Management Division, United States Section, International Boundary and Water Commission; 4171 N. Mesa, C-100; El Paso, Texas 79902. Telephone: (915) 832-4707; e-mail: lisa.santana@ibwc.gov.

DATES: Comments on the Draft EA and Draft FONSI will be accepted through May 26, 2010.

Availability: Single hard copies of the Draft Environmental Assessment and Finding of No Significant Impact are available by request at the above address. Electronic copies are available from the USIBWC homepage at http://www.ibwc.gov/Organization/Environmental/EIS_EA_Public_Comment.html.

Dated: April 19, 2010.
Pamela L. Barber,
Attorney/Advisor.

[FR Doc. 2010-9426 Filed 4-23-10; 8:45 am]

BILLING CODE 7010-01-P